DEPARTMENT OF HOMELAND SECURITY

Federal Emergency Management Agency

[Docket ID FEMA-2021-0002; Internal Agency Docket No. FEMA-B-2147]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Buckeye (20-09-0491P). | The Honorable Eric Orsborn, Mayor, City of Buckeye, 530 East Monroe Avenue, Buckeye, AZ 85326. | Engineering Department, 530 East Monroe Avenue, Buckeye, AZ 85326. | https://msc.fema.gov/portal/advanceSearch. | Sep. 24, 2021 | 040039
Maricopa | City of Buckeye (21-09-0258P). | The Honorable Eric Orsborn, Mayor, City of Buckeye, 530 East Monroe Avenue, Buckeye, AZ 85326. | Engineering Department, 530 East Monroe Avenue, Buckeye, AZ 85326. | https://msc.fema.gov/portal/advanceSearch. | Sep. 10, 2021 | 040039
Maricopa | City of Goodyear (20-09-1436P). | The Honorable Georgia Lord, Mayor, City of Goodyear, 190 North Litchfield Road, Goodyear, AZ 85338. | Engineering and Development Services, 14455 West Van Buren Street, Suite D101, Goodyear, AZ 85338. | https://msc.fema.gov/portal/advanceSearch. | Sep. 24, 2021 | 040046
Maricopa | Unincorporated Areas of Maricopa County (20-09-0491P). | The Honorable Jack Sellers, Chairman, Board of Supervisors, Maricopa County, 301 West Jefferson Street, 10th Floor, Phoenix, AZ 85003. | Flood Control District of Maricopa County, 2801 West Durango Street, Phoenix, AZ 85009. | https://msc.fema.gov/portal/advanceSearch. | Sep. 24, 2021 | 040037
California:
San Luis Obispo | City of San Luis Obispo (21-09-0591P). | The Honorable Heidi Harmon, Mayor, City of San Luis Obispo, 990 Palm Street, San Luis Obispo, CA 93401. | City Hall, 990 Palm Street, San Luis Obispo, CA 93401. | https://msc.fema.gov/portal/advanceSearch. | Oct. 4, 2021 | 060310
Santa Clara | Unincorporated Areas of Santa Clara County (20-09-1627P). | The Honorable Mike Wasserman, President, Board of Supervisors, Santa Clara County, 70 West Hedding Street, 10th Floor, San Jose, CA 95110. | Santa Clara County, Department of Planning and Development, 70 West Hedding Street, 7th Floor East Wing, San Jose, CA 95110. | https://msc.fema.gov/portal/advanceSearch. | Sep. 16, 2021 | 060337
Florida:
Bay | City of Panama City Beach (19-04-5458P). | The Honorable Mark Sheldon, Mayor, City of Panama City Beach, 17007 Panama City Beach Parkway, Panama City Beach, FL 32413. | City Hall, 110 South Arnold Road, Panama City Beach, FL 32413. | https://msc.fema.gov/portal/advanceSearch. | Sep. 22, 2021 | 120013
Bay | City of Panama City Beach (19-04-5699P). | The Honorable Mark Sheldon, Mayor, City of Panama City Beach, 17007 Panama City Beach Parkway, Panama City Beach, FL 32413. | City Hall, 110 South Arnold Road, Panama City Beach, FL 32413. | https://msc.fema.gov/portal/advanceSearch. | Sep. 22, 2021 | 120013
Bay | Unincorporated Areas of Bay County (19-04-5458P). | Mr. Robert Carroll, Chairman, Commissioner District 2, Bay County, 840 West 11th Street, Panama City, FL 32401. | Bay County Planning and Zoning, 707 Jenks Avenue, Suite B, Panama City, FL 32401. | https://msc.fema.gov/portal/advanceSearch. | Sep. 22, 2021 | 120004
St. Johns | Unincorporated Areas of St. Johns County (20-04-5766P). | Mr. Jeremiah Ray Blocker, Chair, St. Johns County Board of County Commissioners, 500 San Sebastian View, St. Augustine, FL 32084. | St. Johns County Administration Building, 4020 Lewis Speedway, St. Augustine, FL 32095. | https://msc.fema.gov/portal/advanceSearch. | Sep. 21, 2021 | 125147
St. Johns | Unincorporated Areas of St. Johns County (20-04-5819P). | Mr. Jeremiah Ray Blocker, Chair, St. Johns County Board of County Commissioners, 500 San Sebastian View, St. Augustine, FL 32084. | St. Johns County Administration Building, 4020 Lewis Speedway, St. Augustine, FL 32095. | https://msc.fema.gov/portal/advanceSearch. | Sep. 24, 2021 | 125147
St. Johns | Unincorporated Areas of St. Johns County (21-04-0576P). | Mr. Jeremiah Ray Blocker, Chair, St. Johns County Board of County Commissioners, 500 San Sebastian View, St. Augustine, FL 32084. | St. Johns County Administration Building, 4020 Lewis Speedway, St. Augustine, FL 32095. | https://msc.fema.gov/portal/advanceSearch. | Oct. 4, 2021 | 125147
Idaho:
Ada | City of Boise (21-10-0103P). | The Honorable Lauren McLean, Mayor, City of Boise, P.O. Box 500, Boise, ID 83701. | City Hall, 150 North Capitol Boulevard, Boise, ID 83701. | https://msc.fema.gov/portal/advanceSearch. | Sep. 24, 2021 | 160002
Ada | City of Star (20-10-0725P). | The Honorable Trevor Chadwick, Mayor, City of Star, P.O. Box 130, Star, ID 83669. | City Hall, 10769 West State Street, Star, ID 83669. | https://msc.fema.gov/portal/advanceSearch. | Aug. 10, 2021 | 160236
Ada | Unincorporated Areas of Ada County (20-10-0725P). | Mr. Rod Beck, Chairman, County Commissioner, District 2, Ada County, 200 West Front Street, 3rd Floor, Boise, ID 83702. | Ada County Courthouse, 200 West Front Street, Boise, ID 83702. | https://msc.fema.gov/portal/advanceSearch. | Aug. 10, 2021 | 160001
Illinois:
Kane | Unincorporated Areas of Kane County (21-05-0452P). | The Honorable Corinne Pierog, Chairman, Kane County Board, Kane County Government Center, 719 South Batavia Avenue, Building A, Geneva, IL 60134. | Kane County Government Center, Water Resources Department, 719 South Batavia Avenue, Building A, Geneva, IL 60134. | https://msc.fema.gov/portal/advanceSearch. | Sep. 10, 2021 | 170896
Kane | Village of Pingree Grove (21-05-0452P). | The Honorable Steve Wiedmeyer, Village President, Village of Pingree Grove, 555 Reinking Road, Pingree Grove, IL 60140. | Village Hall, 555 Reinking Road, Pingree Grove, IL 60140. | https://msc.fema.gov/portal/advanceSearch. | Sep. 10, 2021 | 171078
Nevada:
Clark | City of Henderson (21-09-0235P). | The Honorable Debra March, Mayor, City of Henderson, City Hall, 240 South Water Street, Henderson, NV 89015. | Public Works Department, 240 South Water Street, Henderson, NV 89015. | https://msc.fema.gov/portal/advanceSearch. | Oct. 1, 2021 | 320005
Clark | Unincorporated Areas of Clark County (21-09-0038P). | The Honorable Marilyn Kirkpatrick, Chair, Board of Commissioners, Clark County, 500 South Grand Central Parkway, 6th Floor, Las Vegas, NV 89155. | Clark County, Office of the Director of Public Works, 500 South Grand Central Parkway, 2nd Floor, Las Vegas, NV 89155. | https://msc.fema.gov/portal/advanceSearch. | Sep. 9, 2021 | 320003

[FR Doc. 2021-14114 Filed 6-30-21; 8:45 am]

BILLING CODE 9110-12-P